COMMISSION ON CIVIL RIGHTS

Agenda and Notice of Public Meeting of the Delaware Advisory Committee

Notice is hereby given, pursuant to the provisions of the rules and regulations of the U.S. Commission on Civil Rights, that a meeting of the Delaware Advisory Committee to the Commission will convene at 11 a.m. and adjourn at 4 p.m. on Wednesday, March 13, 2002, at the Metropolitan Wilmington Urban League, 100 W. 10th Street, Conference Room, Wilmington, Delaware 19801. The Advisory Committee will provide an orientation to members in administrative matters, disseminate newly revised copies of its report, Delaware Citizens Guide to Civil Rights and Supporting Services, and hold a briefing session to hear from invited speakers on civil rights issues affecting the state.

Persons desiring additional information, or planning a presentation to the Committee, should contact Ed Darden of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, February 19, 2002.
Ivy L. Davis,
Chief, Regional Programs Coordination Unit.

[FR Doc. 02-4453 Filed 2-22-01; 8:45 am]

BILLING CODE 6335-01-P